DEPARTMENT OF ENERGY

Federal Energy Regulatory Commission

Combined Notice of Filings #1

Take notice that the Commission received the following electric corporate filings:

Docket Numbers: EC24-63-000.

Applicants: Big Cypress Solar, LLC.

Description: Application for Authorization Under Section 203 of the Federal Power Act of Big Cypress Solar, LLC.

Filed Date: 3/22/24.

Accession Number: 20240322-5224.

Comment Date: 5 p.m. ET 4/12/24.

Docket Numbers: EC24-64-000.

Applicants: AL Sandersville, LLC, MPC Generating, LLC.

Description: Joint Application for Authorization Under Section 203 of the Federal Power Act of AL Sandersville, LLC, et al.

Filed Date: 3/25/24.

Accession Number: 20240325-5261.

Comment Date: 5 p.m. ET 4/15/24.

Take notice that the Commission received the following exempt wholesale generator filings:

Docket Numbers: EG24-143-000.

Applicants: Hardin Solar Energy III LLC.

Description: Hardin Solar Energy III LLC submits Notice of Self-Certification of Exempt Wholesale Generator Status.

Filed Date: 3/25/24.

Accession Number: 20240325-5166.

Comment Date: 5 p.m. ET 4/15/24.

Take notice that the Commission received the following Complaints and Compliance filings in EL Dockets:

Docket Numbers: EL24-93-000.

Applicants: Northwest Rural Public Power District v. Basin Electric Power Cooperative and Tri-State Generation and Transmission Association, Inc.

Description: Complaint of Northwest Rural Public Power District v. Basin Electric Power Cooperative, et al.

Filed Date: 3/25/24.

Accession Number: 20240325-5110.

Comment Date: 5 p.m. ET 4/24/24.

Take notice that the Commission received the following electric rate filings:

Docket Numbers: ER10-2794-036; ER14-2672-021; ER12-1825-034.

Applicants: EDF Industrial Power Services (CA), LLC, EDF Energy Services, LLC, EDF Trading North America, LLC.

Description: Supplement to June 29, 2022 Triennial Market Power Analysis for Southwest Region of EDF Trading North America, LLC, et al.

Filed Date: 3/20/24.

Accession Number: 20240320-5235.

Comment Date: 5 p.m. ET 4/10/24.

Docket Numbers: ER21-214-003.

Applicants: Baltimore Gas and Electric Company, PJM Interconnection, L.L.C.

Description: Compliance filing: Baltimore Gas and Electric Company submits tariff filing per 35: BGE Compliance Filing in ER21-214 to be effective 1/1/2021.

Filed Date: 3/25/24.

Accession Number: 20240325-5128.

Comment Date: 5 p.m. ET 4/15/24.

Docket Numbers: ER22-871-002; ER22-2925-002; ER22-2926-002.

Applicants: Jicarilla Storage 1 LLC, Jicarilla Solar 1 LLC, Jicarilla Solar 2 LLC.

Description: Notice of Change in Status of Jicarilla Solar 2 LLC, et al.

Filed Date: 3/25/24.

Accession Number: 20240325-5259.

Comment Date: 5 p.m. ET 4/15/24.

Docket Numbers: ER24-1606-000.

Applicants: Sol Systems LLC.

Description: Petition for Limited Waiver of Sol Systems, LLC.

Filed Date: 3/22/24.

Accession Number: 20240322-5264.

Comment Date: 5 p.m. ET 4/12/24.

Docket Numbers: ER24-1607-000.

Applicants: PJM Interconnection, L.L.C.

Description: § 205(d) Rate Filing: Ministerial Clean-Up Filing for Tariff, Schedule 12—Appendix A to be effective 4/5/2023.

Filed Date: 3/25/24.

Accession Number: 20240325-5112.

Comment Date: 5 p.m. ET 4/15/24.

Docket Numbers: ER24-1608-000.

Applicants: Hardin Solar Energy III, LLC.

Description: Baseline eTariff Filing: Application for Market Based Rate to be effective 3/26/2024.

Filed Date: 3/25/24.

Accession Number: 20240325-5160.

Comment Date: 5 p.m. ET 4/15/24.

Docket Numbers: ER24-1609-000.

Applicants: PJM Interconnection, L.L.C.

Description: § 205(d) Rate Filing: Amendment to ISA No. 6555 & ICSA No. 6556, AC1-086 (amend_mcd) to be effective 5/25/2024.

Filed Date: 3/25/24.

Accession Number: 20240325-5168.

Comment Date: 5 p.m. ET 4/15/24.

Docket Numbers: ER24-1610-000.

Applicants: Basin Electric Power Cooperative.

Description: § 205(d) Rate Filing: Basin Electric Power Cooperative, Submission of Revised Rate Schedule A to be effective 5/24/2024.

Filed Date: 3/25/24.

Accession Number: 20240325-5175.

Comment Date: 5 p.m. ET 4/15/24.

Docket Numbers: ER24-1611-000.

Applicants: Alabama Power Company, Georgia Power Company, Mississippi Power Company.

Description: § 205(d) Rate Filing: Alabama Power Company submits tariff filing per 35.13(a)(2)(iii: Pine Belt Solar LGIA Filing to be effective 3/12/2024.

Filed Date: 3/25/24.

Accession Number: 20240325-5177.

Comment Date: 5 p.m. ET 4/15/24.

Docket Numbers: ER24-1612-000.

Applicants: PacifiCorp.

Description: § 205(d) Rate Filing: OATT Revised Attachment H-1—(Rev Depreciation Rates 2024) to be effective 6/1/2024.

Filed Date: 3/25/24.

Accession Number: 20240325-5186.

Comment Date: 5 p.m. ET 4/15/24.

Docket Numbers: ER24-1613-000.

Applicants: Wisconsin Public Service Corporation.

Description: Tariff Amendment: Notices of Cancellation of WPSC Rate Schedule Nos. 97 and 101 to be effective 2/1/2024.

Filed Date: 3/25/24.

Accession Number: 20240325-5235.

Comment Date: 5 p.m. ET 4/15/24.

Docket Numbers: ER24-1614-000.

Applicants: Orange and Rockland Utilities, Inc., New York Independent System Operator, Inc.

Description: § 205(d) Rate Filing: Orange and Rockland Utilities, Inc. submits tariff filing per 35.13(a)(2)(iii: O&R Proposed FR Template and Protocols in Rate Schedules 10 and 19 to be effective 5/25/2024.

Filed Date: 3/25/24.

Accession Number: 20240325-5244.

Comment Date: 5 p.m. ET 4/15/24.

Take notice that the Commission received the following electric securities filings:

Docket Numbers: ES24-25-000.

Applicants: PJM Settlement, Inc.

Description: Application Under Section 204 of the Federal Power Act for Authorization to Issue Securities of PJM Settlement, Inc.

Filed Date: 3/22/24.

Accession Number: 20240322-5226.

Comment Date: 5 p.m. ET 4/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 25, 2024.
Debbie-Anne A. Reese,
Acting Secretary.

[FR Doc. 2024-06769 Filed 3-29-24; 8:45 am]

BILLING CODE 6717-01-P